DEPARTMENT OF TRANSPORTATION

Federal Aviation Administration

14 CFR Part 39

[Docket No. FAA-2009-0717; Directorate Identifier 2009-NM-002-AD; Amendment 39-16196; AD 2010-04-03]

RIN 2120-AA64

Airworthiness Directives; Airbus Model A310 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Following scheduled maintenance, an A310 operator reported finding cracks around the wing top skin panels fastener holes at Rib 2 (LH or RH) [left-hand or right-hand], between stringers 2 and 14 on some of its aircraft.

This condition, if not corrected, may lead to degradation of the structure in this area. An inspection programme is necessary to restore and retain the structural integrity.

* * * * *

We are issuing this AD to require actions to correct the unsafe condition on these products.

DATES: This AD becomes effective March 19, 2010.

The Director of the Federal Register approved the incorporation by reference of a certain publication listed in this AD as of March 19, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on August 25, 2009 (74 FR 42804). That NPRM proposed to correct an unsafe condition for the specified products. The MCAI states:

Following scheduled maintenance, an A310 operator reported finding cracks around the wing top skin panels fastener holes at Rib 2 (LH or RH) [left-hand or right-hand], between stringers 2 and 14 on some of its aircraft.

This condition, if not corrected, may lead to degradation of the structure in this area. An inspection programme is necessary to restore and retain the structural integrity.

For the reason described above, this AD requires the implementation of an inspection programme that will ensure that any visible cracks in the wing top skin panels 1 and 2 along Rib 2 are detected in time and repaired appropriately.

Note: The General Visual Inspection requested by the existing and applicable Airworthiness Limitation Items (ALI) tasks may not be adequate to detect these cracks.

You may obtain further information by examining the MCAI in the AD docket.

Comments

We gave the public the opportunity to participate in developing this AD. We considered the comment received.

Request To Include Repair Instructions

FedEx Express requests that we revise the NPRM to include or reference repair instructions. FedEx Express states that if cracks are found, Airbus must be contacted and the airplane must be repaired before further flight. However, FedEx Express states that neither the NPRM nor Airbus Mandatory Service Bulletin A310-57-2096, dated May 6, 2008, gives specific repair instructions for the area. FedEx Express asserts that including repair instructions will allow it to meet the AD requirements prior to release of the AD, which will reduce downtime.

We do not agree with FedEx Express's request. Airbus has a generic repair instruction that meets the requirements of this AD, however the generic instruction must be optimized to suit each individual airplane in order to reduce the aero and weight impact for that airplane. Because the generic repair must be individualized to each airplane, operators must contact Airbus to get their individualized repair instruction. Due to the number of individualized repair instructions that will be required, Airbus did not include those repair instructions in Airbus Mandatory Service Bulletin A310-57-2096, dated May 6, 2008, and we are unable to include each one in this AD. For these reasons, we have made no change to the final rule in this regard.

Request To Include Work-Hours and Cost of Materials for the Repair

FedEx Express states that the inspection thresholds and intervals fit into its planned scheduled maintenance checks and that the work-hours required for the inspection will not affect the check span time. However, FedEx Express further asserts that neither work-hours nor materials for the required repairs are provided in Airbus Mandatory Service Bulletin A310-57-2096, dated May 6, 2008. Therefore, FedEx Express states that it cannot predict the effect the AD will have on its scheduled maintenance check span times.

From these statements, we infer that FedEx is requesting that we revise the NPRM to include the work-hours and cost of materials for the repair. We do not agree. The Costs of Compliance section of the AD is limited to the costs of actions actually required by the rule. It does not consider the costs of “on-condition” actions because, regardless of AD direction, those actions would be required to correct an unsafe condition to ensure operation of that airplane in an airworthy condition, as required by the Federal Aviation Regulations. We have not changed the final rule in this regard.

Change to Reporting Requirement

We have revised paragraph (f)(5)(i) of this final rule to clarify our intent that results for inspections that are accomplished “on or after the effective date of this AD” must be submitted within 30 days after the inspection.

Conclusion

We reviewed the available data, including the comments received, and determined that air safety and the public interest require adopting the AD with the change described previously. We determined that this change will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect 66 products of U.S. registry. We also estimate that it will take about 2 work-hours per product to comply with the basic requirements of this AD. The average labor rate is $80 per work-hour. Based on these figures, we estimate the cost of this AD to the U.S. operators to be $10,560, or $160 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-04-03 Airbus: Amendment 39-16196. Docket No. FAA-2009-0717; Directorate Identifier 2009-NM-002-AD.

Effective Date

(a) This airworthiness directive (AD) becomes effective March 19, 2010.

Affected ADs

(b) None.

Applicability

(c) This AD applies to all Airbus Model A310-203, -204, -221, -222, -304, -322, -324, and -325 airplanes; certificated in any category.

Subject

(d) Air Transport Association (ATA) of America Code 57: Wings.

Reason

(e) The mandatory continuing airworthiness information (MCAI) states:

Following scheduled maintenance, an A310 operator reported finding cracks around the wing top skin panels fastener holes at Rib 2 (LH or RH) [left-hand or right-hand], between stringers 2 and 14 on some of its aircraft.

This condition, if not corrected, may lead to degradation of the structure in this area. An inspection programme is necessary to restore and retain the structural integrity.

For the reason described above, this AD requires the implementation of an inspection programme that will ensure that any visible cracks in the wing top skin panels 1 and 2 along Rib 2 are detected in time and repaired appropriately.

Note: The General Visual Inspection requested by the existing and applicable Airworthiness Limitation Items (ALI) tasks may not be adequate to detect these cracks.

Actions and Compliance

(f) Unless already done, do the following actions:

(1) Do a detailed visual inspection around fastener holes in the wing top skin panels 1 and 2, along rib 2 between the right side and left side of the front and rear spars, at the applicable compliance time in Table 1 of this AD; as applicable to the airplane model and Short Range (SR) use, average flight time (AFT) equal to or less than 4 hours; or Long Range (LR) use, AFT exceeding 4 hours; in accordance with the Accomplishment Instructions of Airbus Mandatory Service Bulletin A310-57-2096, dated May 6, 2008.

Note 1: To establish the AFT, take the accumulated flight time (counted from the take-off up to the landing) and divide by the number of accumulated flight cycles. This gives the average flight time per flight cycle.

Table 1—Compliance Times for Detailed Visual Inspection
Model | Compliance time (whichever occurs later)
(i) A310-203, A310-204, A310-221, and A310-222 airplanes | (A) Prior to the accumulation of 18,700 flight cycles or 37,400 flight hours since first flight of the airplane, whichever occurs first; or
| (B) Within 430 flight cycles or 860 flight hours, whichever occurs first, after the effective date of this AD.
(ii) ‘SR’ A310-304, A310-322, A310-324, and A310-325 short range airplanes | (A) Prior to the accumulation of 17,300 flight cycles or 48,400 flight hours since first flight of the airplane, whichever occurs first; or
| (B) Within 400 flight cycles or 1,100 flight hours, whichever occurs first, after the effective date of this AD.
(iii) ‘LR’ A310-304, A310-322, A310-324, and A310-325 long range airplanes | (A) Prior to accumulation of 12,800 flight cycles or 64,300 flight hours since first flight of the airplane, whichever occurs first; or
| (B) Within 300 flight cycles or 1,450 flight hours, whichever occurs first, after the effective date of this AD.

(2) As of the effective date of this AD, if any repair has already been done as a result of finding skin cracks at rib 2 in the area to be inspected, the inspection requirements of this AD are not required for the repaired area. Instead, for previously repaired areas, continue the inspection in accordance with the procedures specified in paragraph (g) of this AD. The rest of the rib 2 area not covered by the repair must be inspected in accordance with the requirements of this AD.

(3) If no crack is found, repeat the inspection required by paragraph (f)(1) of this AD thereafter at the intervals not to exceed those specified in Table 2 of this AD, as applicable.

Table 2—Compliance Times for Repetitive Inspection Interval
Model | Repetitive inspection interval
A310-203, A310-204, A310-221, and A310-222 airplanes | Within 1,700 flight cycles or 3,500 flight hours, whichever occurs first.
‘SR’ A310-304, A310-322, A310-324, and A310-325 short range airplanes | Within 1,600 flight cycles or 4,600 flight hours, whichever occurs first.
‘LR’ A310-304, A310-322, A310-324, and A310-325 long range airplanes | Within 1,200 flight cycles or 6,100 flight hours, whichever occurs first.

(4) If any crack is found during any inspection required by paragraph (f)(1) or (f)(3) of this AD, before further flight, repair in accordance with the Accomplishment Instructions of Airbus Mandatory Service Bulletin A310-57-2096, dated May 6, 2008. For previously repaired areas, continue the inspection in accordance with the procedures specified in paragraph (g) of this AD.

(5) After each inspection required by this AD, submit an inspection report in accordance with Airbus Mandatory Service Bulletin A310-57-2096, dated May 6, 2008; at the times specified in paragraphs (f)(5)(i) or (f)(5)(ii) of this AD, as applicable.

(i) If the inspection is done on or after the effective date of this AD: Submit the report within 30 days after the inspection.

(ii) If the inspection was accomplished prior to the effective date of this AD: Submit the report within 30 days after the effective date of this AD.

FAA AD Differences

Note 2: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI European Aviation Safety Agency Airworthiness Directive 2008-0211, dated December 4, 2008; and Airbus Mandatory Service Bulletin A310-57-2096, dated May 6, 2008; for related information.

Material Incorporated by Reference

(i) You must use Airbus Mandatory Service Bulletin A310-57-2096, including Appendix 1, dated May 6, 2008, to do the actions required by this AD, unless the AD specifies otherwise.

(1) The Director of the Federal Register approved the incorporation by reference of this service information under 5 U.S.C. 552(a) and 1 CFR part 51.

(2) For service information identified in this AD, contact Airbus, Airbus SAS—EAW (Airworthiness Office), 1 Rond Point Maurice Bellonte, 31707 Blagnac Cedex, France; telephone +33 5 61 93 36 96; fax +33 5 61 93 44 51; e-mail: account.airworth-eas@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on January 28, 2010.
Ali Bahrami,
Manager, Transport Airplane Directorate, Aircraft Certification Service.

[FR Doc. 2010-2607 Filed 2-11-10; 8:45 am]

BILLING CODE 4910-13-P